DEPARTMENT OF COMMERCE

Foreign-Trade Zones Board

[B-27-2021]

Foreign-Trade Zone (FTZ) 106—Oklahoma City, Oklahoma; Notification of Proposed Production Activity; Miraclon Corporation (Flexographic/Aluminum Printing Plates and Direct Imaging/Thermo Imaging Layer Film); Weatherford, Oklahoma

Miraclon Corporation (Miraclon) submitted a notification of proposed production activity to the FTZ Board for its facility in Weatherford, Oklahoma. The notification conforming to the requirements of the regulations of the FTZ Board (15 CFR 400.22) was received on March 17, 2021.

Miraclon already has authority to produce flexographic printing plates, aluminum printing plates, direct imaging film, and thermo imaging layer film within Subzone 106F (originally approved as Eastman Kodak Company). The current request would add a foreign-status material to the scope of authority. Pursuant to 15 CFR 400.14(b), additional FTZ authority would be limited to the specific foreign-status material described in the submitted notification (as described below) and subsequently authorized by the FTZ Board.

Production under FTZ procedures could exempt Miraclon from customs duty payments on the foreign-status material used in export production. On its domestic sales, for the foreign-status material noted, Miraclon would be able to choose the duty rates during customs entry procedures that apply to flexographic printing plates, aluminum printing plates, direct imaging film, and thermo imaging layer film (duty-free to 3.7%). Miraclon would be able to avoid duty on foreign-status material which becomes scrap/waste. Customs duties also could possibly be deferred or reduced on foreign-status production equipment.

The material sourced from abroad is foam plastic sheets (duty rate, 6.5%). The request indicates that foam plastic sheets are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is May 17, 2021.

A copy of the notification will be available for public inspection in the “Reading Room” section of the Board's website, which is accessible via www.trade.gov/ftz.

For further information, contact Diane Finver at Diane.Finver@trade.gov.

Dated: April 1, 2021.
Andrew McGilvray,
Executive Secretary.

[FR Doc. 2021-07017 Filed 4-5-21; 8:45 am]

BILLING CODE 3510-DS-P